NUCLEAR REGULATORY COMMISSION

[Docket Nos. 52-031 and 52-032; NRC-2008-0542]

Exelon Generation Company, LLC; Victoria County Station, Units 1 and 2; Notice of Withdrawal of Application for a Combined License

By letter dated September 2, 2008, Exelon Nuclear Texas Holdings, LLC, (Exelon) submitted an application for a combined license (COL) for two Economic Simplified Boiling Water Reactor (ESBWR) units to the U.S. Nuclear Regulatory Commission (the Commission) in accordance with the requirements contained in 10 CFR part 52, “Licenses, Certifications and Approvals for Nuclear Power Plants.” Exelon identified these reactors as Victoria County Station, Units 1 and 2.

A notice acknowledging receipt and availability of this application was published in the Federal Register (73 FR 56867) on September 30, 2008. On November 6, 2008, a subsequent notice was published in the Federal Register (73 FR 66059) announcing the acceptance of the Victoria County Station, Units 1 and 2 COL application for docketing in accordance with 10 CFR part 2, “Rules of Practice for Domestic Licensing Proceedings and Issuance of Orders,” and 10 CFR part 52. The docket numbers established for this application are 52-031 (Unit 1) and 52-032 (Unit 2).

By letter dated June 11, 2010, Exelon requested that the Victoria County Station, Units 1 and 2 COL application be withdrawn from the docket. Pursuant to the requirements in 10 CFR part 2, the Commission grants Exelon its request to withdraw the Victoria County Station, Units 1 and 2, COL application.

For further details with respect to this action, see the licensee's letters dated November 28, 2008 and July 1, 2009. Documents may be examined, and/or copied for a fee, at the NRC's Public Document Room (PDR), located at One White Flint North, Public File Area O1 F21, 11555 Rockville Pike (first floor), Rockville, Maryland. Publicly available records are accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 20th day of July 2010.
For the Nuclear Regulatory Commission.
David B. Matthews,
Director, Division of New Reactor Licensing, Office of New Reactors.

[FR Doc. 2010-18230 Filed 7-23-10; 8:45 am]

BILLING CODE 7590-01-P